DEPARTMENT OF DEFENSE

Office of the Secretary

Renewal of Department of Defense Federal Advisory Committees

AGENCY: DoD.

ACTION: Renewal of Inland Waterways Users Board.

SUMMARY: Under the provisions of 10 U.S.C. 2166(e), the Federal Advisory Committee Act of 1972 (5 U.S.C. Appendix), the Government in the Sunshine Act of 1976 (5 U.S.C. 552b), and 41 CFR 102-3.50(a), the Department of Defense (DoD) gives notice that it is renewing the charter for the Inland Waterways Users Board (“the Board”).

FOR FURTHER INFORMATION CONTACT: Jim Freeman, Advisory Committee Management Officer for the Department of Defense, 703-692-5952.

SUPPLEMENTARY INFORMATION: The Board shall provide the Secretary of Defense, through the Secretary of the Army and the Assistant Secretary of the Army for Civil Works, independent advice and recommendations on matters relating to construction and rehabilitation priorities and spending levels on the commercial navigation features and components of the U.S. inland waterways and inland harbors.

The Board shall report to the Secretary of Defense through the Secretary of the Army, the Assistant Secretary of the Army for Civil Works, and the U.S. Army Corps of Engineers. The Secretary of the Army, pursuant to DoD policy, may act upon the Board's advice and recommendations. Board members, as determined by the DoD, shall be representative members and, pursuant to 33 U.S.C. 2251(a), the Board shall be composed of eleven members.

Based upon the Secretary of the Army's recommendation, the Secretary of Defense shall invite primary commercial users and shippers of the inland and intracoastal waterways to serve on the Board. Commercial users and shippers invited to serve on the Board shall designate an individual, subject to Secretary of Defense approval, to represent the organization's interests.

The Department, when considering prospective users and shippers to be represented on the Board, shall ensure selections represent various regions of the country and a spectrum of the primary users and shippers utilizing the inland and intracoastal waterways for commercial purposes. Due consideration shall be given to assure a balance among the members based on the ton-mile shipments of the various categories of commodities shipped on inland and intracoastal waterways.

A primary user or shipper may be represented on the Board, at the request of the Secretary of the Army and with the approval of the Secretary of Defense, for a two-year term of service. A user or shipper may be represented on the Board no more than two terms of service (four years), without prior approval of the Secretary of Defense. A user or shipper may be subsequently represented on the Board, but only after being off the Board for at least two years.

In addition to the primary users and shippers invited by the Secretary of Defense, the Secretary of the Army shall designate, and the Secretaries of Agriculture, Transportation and Commerce may each designate, a representative to act as an observer of the Board. These observers, who have no voting rights, shall each be a full-time or permanent part-time employee of his or her respective agency.

Pursuant to 33 U.S.C. 2251(a), the Secretary of the Army shall designate one Board member to serve as the Board's Chairperson. With the exception of travel and per diem for official travel, all Board members shall serve without compensation.

The Department, when necessary and consistent with the Board's mission and DoD policies and procedures, may establish subcommittees, task groups, or working groups to support the Board. Establishment of subcommittees will be based upon a written determination, to include terms of reference, by the Secretary of Defense, the Deputy Secretary of Defense, or the Secretary of the Army. Currently, the Board does not use subcommittees. If the Department determines that the establishment of subcommittees is warranted, the Board's charter must be amended prior to such establishment.

The Board shall meet at the call of the Board's Designated Federal Officer (DFO), in consultation with the Chairperson. Pursuant to 33 U.S.C. 2251(b), the Board shall meet at least semi-annually.

In addition, the DFO is required to be in attendance at all Board and subcommittee meetings for the entire duration of each and every meeting; however, in the absence of the DFO, the Alternate DFO shall attend the entire duration of the Board or subcommittee meeting.

Pursuant to 41 CFR 102-3.105(j) and 102-3.140, the public or interested organizations may submit written statements to the Board membership about the Board's mission and functions. Written statements may be submitted at any time or in response to the stated agenda of planned meeting of the Board.

All written statements shall be submitted to the DFO, and this individual will ensure that the written statements are provided to the membership for their consideration. Contact information for the Board's DFO can be obtained from the GSA's FACA Database— https://www.fido.gov/facadatabase/public.asp.

The DFO, pursuant to 41 CFR 102-3.150, will announce planned meetings of the Board. The DFO, at that time, may provide additional guidance on the submission of written statements that are in response to the stated agenda for the planned meeting in question.

Dated: April 23, 2013.
Aaron Siegel,
Alternate OSD Federal Register Liaison Officer, Department of Defense.

[FR Doc. 2013-09972 Filed 4-26-13; 8:45 am]

BILLING CODE 5001-06-P